DEPARTMENT OF THE INTERIOR

Bureau of Land Management

[OR-958-1430-ET; HAG 03-0217; WAW-05324]

Public Land Order No. 7583; Partial Revocation of Executive Order Dated December 14, 1886; Washington

AGENCY: Bureau of Land Management, Interior.

ACTION: Public land order.

SUMMARY: This order revokes an Executive Order insofar as it affects 20.68 acres of lands reserved for the Ediz Hook Lighthouse. The lands are no longer needed by the United States Coast Guard for lighthouse purposes.

EFFECTIVE DATE: September 17, 2003.

FOR FURTHER INFORMATION CONTACT: Michael L. Barnes, BLM Oregon/Washington State Office, P.O. Box 2965, Portland, Oregon 97208, 503-808-6155.

SUPPLEMENTARY INFORMATION: This order is a record clearing action only for 1.7 acres that have been conveyed out of Federal ownership. The lands will not be opened until a planning review and analysis have been completed to determine if any of the lands need special designation and protection.

Order

By virtue of the authority vested in the Secretary of the Interior by section 204 of the Federal Land Policy Management Act of 1976, 43 U.S.C. 1714 (2000), it is ordered as follows:

The Executive Order dated December 14, 1886, which reserved lands for lighthouse purposes, is hereby revoked insofar as it affects the following described lands:

Willamette Meridian

T. 31 N., R. 6 W.,

Sec. 33, Out Lots 4, 5, and 6, and the westerly 4.89 acres of Out Lot 7.

The areas described aggregate 20.68 acres in Clallam County.

Dated: September 3, 2003.
Rebecca W. Watson,
Assistant Secretary—Land and Minerals Management.

[FR Doc. 03-23692 Filed 9-16-03; 8:45 am]

BILLING CODE 4310-33-M